NATIONAL CREDIT UNION ADMINISTRATION

Revision of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions and revisions of currently approved collections to the Office of Management and Budget (OMB) for renewal.

DATES: Written comments should be received on or before October 25, 2024 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dacia Rogers at (703) 518-6547, emailing PRAComments@ncua.gov, or viewing the entire information collection request at www.reginfo.gov.

SUPPLEMENTARY INFORMATION:

OMB Number: 3133-0193.

Title: Joint Standards for Assessing the Diversity Policies and Practices.

Type of Review: Revision of a currently approved collection.

Abstract: Section 342 of the Dodd-Frank Wall Street Reform and Consumer Protection Act of 2010 (Act) instructed each agency Office of Minority and Women Inclusion (OMWI) director to develop standards for assessing the diversity policies and practices of entities regulated by each agency. The Agencies worked together to develop joint standards and publish a policy statement in the Federal Register. The Policy Statement contains a collection of information. The NCUA 15004, “Annual Voluntary Credit Union Diversity Self-Assessment,” can be used by federally insured credit unions to perform their assessment and to submit information to NCUA.

Affected Public: Private Sector: Not-for-profit institutions.

Estimated Number of Respondents: 500.

Estimated Number of Responses per Respondent: 1.

Estimated Total Annual Responses: 500.

Estimated Hours per Response: 2.

Estimated Total Annual Burden Hours: 1,000.

Reason for Change: The number of respondents increased, and the annual burden hours decreased.

OMB Number: 3133-0092.

Title: Loans to Members and Lines of Credit to Members, 12 CFR 701.21 and Apx. B to 741.

Type of Review: Revision of a currently approved collection.

Abstract: Section 107(5) of the Federal Credit Union Act authorizes Federal Credit Unions (FCU) to make loans to members and issue lines of credit (including credit cards) to members. Section 701.21 governs the requirements related to loans to members and lines of credit to members for FCUs. Additionally, Part 741 established requirements for all federally insured credit unions (both Federal and state charters) related to loans to members and lines of credit union members. NCUA reviews the information collections to ensure compliance with applicable regulations and laws, and to assess the safety and soundness of the credit union's lending program.

Affected Public: Private Sector: Not-for-profit institutions.

Estimated Number of Respondents: 4,533.

Estimated Number of Responses per Respondent: 39.89.

Estimated Total Annual Responses: 180,824.

Estimated Hours per Response: 0.090380702.

Estimated Total Annual Burden Hours: 16,343.

Reason for Change: The number of respondents decreased, and the estimated annual burden hours decreased.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-21916 Filed 9-24-24; 8:45 am]

BILLING CODE 7535-01-P